NUCLEAR REGULATORY COMMISSION

Request To Amend a License to Export High-Enriched Uranium

Pursuant to 10 CFR 110.70 (b) “Public Notice of Receipt of an Application,” please take notice that the Nuclear Regulatory Commission (NRC) has received the following request for an export license amendment. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the Office of the General Counsel, U.S. Nuclear Regulatory Commission, Washington, DC 20555; the Office of the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 Fed. Reg 49139 (Aug. 28, 2007). Information about filing electronically is available on the NRC's public Web site at http://www.nrc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications.

The information concerning this export license amendment application follows.

NRC Export License Amendment Application
Name of Applicant, Date of Application, Date Received, Application No., Docket No. | Description of Material: Material type | Description of Material: Total quantity | Description of Material: End use | Description of Material: Recipient country
U.S. Department of Energy, National Nuclear Security Administration, October 16, 2013, October 18, 2013, XSNM3729/01, 11006053 | High-Enriched Uranium (HEU) (Maximum of 93.35%) | 13.5 kilograms uranium (12.615 kilograms U-235) | To manufacture HEU targets in France for irradiation in research reactors for production of molybdenum-99 (Mo-99) medical isotopes in the Institute for Radioelements in Belgium. Amend to: 1) increase the quantity of HEU authorized for export from 5.8 kg of U-235 contained in 6.2 kg uranium to a new cumulative total of 12.615 kg of U-235 contained in 13.5 kg uranium; 2) increase maximum enriched uranium quantity from 93.2% to 93.35%; and 3) add LVR-15 Research Reactor in the Czech Republic and Maria Research Reactor in Poland to the list of “Intermediate Foreign Consignees(s).” | Belgium.

For The Nuclear Regulatory Commission.
Dated this 25th day of November 2013 at Rockville, Maryland.
Stephen Dembek,
Acting Director, Office of International Programs.

[FR Doc. 2013-28820 Filed 11-29-13; 8:45 am]

BILLING CODE 7590-01-P